FEDERAL COMMUNICATIONS COMMISSION

47 CFR Part 97

[DA 06-79]

Amateur Service Rules

AGENCY: Federal Communications Commission.

ACTION: Final rule.

SUMMARY: This document amends the Amateur Radio Service rules to conform with the international Radio Regulations adopted at the International Telecommunications Union World Radiocommunication Conference Final Acts (Geneva, 2003) (WRC-03 Final Acts). The WRC-03 Final Acts revised the international regulations that apply to the amateur service and the amateur satellite service and became effective on July 5, 2003. These amendments ensure that the Commission's amateur service rules reflect the international regulations.

DATES: Effective May 3, 2006.

FOR FURTHER INFORMATION CONTACT: William T. Cross, Public Safety and Critical Infrastructure Division, Wireless Telecommunications Bureau, (202) 418-0680, TTY (202) 418-7233.

SUPPLEMENTARY INFORMATION: This is a summary of the Commission's Order, DA 06-79, adopted January 17, 2006, and released January 19, 2006. The complete text of this document is available for inspection and copying during normal business hours in the FCC's Reference Information Center, 445 12th Street, SW., Room CY-A257, Washington, DC. Alternative formats (Braille, large print, electronic files, audio format) are available for people with disabilities by sending an e-mail to FCC504@fcc.gov or, calling the Consumer and Government Affairs Bureau at (202) 418-0530 (voice), (202) 418-0432 (TTY). The Order also may be downloaded from the Commission's Web site at http://www.fcc.gov/.

1. In the Order the Commission adopted changes to its part 97 rules to conform the amateur service rules with the international Radio Regulations. The overall effect of this action is to update the part 97 Amateur Radio Service rules in the Code of Federal Regulations to conform to now-effective international agreements. Specifically, the Commission amended §§ 97.111(a)(1), 97.115(a)(2), 97.113(a)(4), 97.117, and revised the definition of International Morse code and various digital codes in § 97.3 of the Amateur Radio Service rules.

2. Section 97.111(a)(1) of the Commission's rules implements Radio Regulations Article 25.1. Previously, Article 25.1 stated “Radiocommunications between amateur stations of different countries shall be forbidden if the administration of one of the countries concerned has notified that it objects to such radiocommunications.” Article 25.1, as revised at WRC-03, now states “Radiocommunications between amateur stations of different countries shall be permitted unless the administration of one of the countries concerned has notified that it objects to such radiocommunications.” To conform § 97.111(a)(1) to the amended Radio Regulation, the Commission amended this section to state that amateur stations are authorized to make transmissions necessary to exchange messages with other stations in the amateur service, except those in any country whose administration has notified the ITU that it objects to such communications. The effect of this revision is to clarify that communications between FCC-licensed amateur stations and amateur stations of different countries shall be permitted unless the administration of one of the countries concerned has notified the ITU that it objects to such radiocommunications.

3. Section 97.115(a)(2) of the Commission's rules implements Radio Regulations Article 25.3. Previously, Article 25.3 stated “It is absolutely forbidden for amateur stations to be used for transmitting international communications on behalf of third parties.” Article 25.4, however, stated “The proceeding provision [Article 25.3] may be modified by special arrangements between the administrations of the countries concerned.” Article 25.3, as revised at WRC-03, now states “Amateur stations may be used for transmitting international communications on behalf of third parties only in case of emergencies or disaster relief. An administration may determine the applicability of this provision to amateur stations under its jurisdiction.” To conform § 97.115(a)(2) to the amended Radio Regulation, the Commission amended this section to allow amateur stations to transmit international third party communications to any station within the jurisdiction of any foreign government when transmitting emergency or disaster relief communications and, as previously permitted, to any station within the jurisdiction of any foreign government whose administration has made arrangements with the United States to allow amateur stations to be used for transmitting international communications on behalf of third parties. The effect of this revision is to permit amateur stations to be used for transmitting international communications on behalf of third parties in case of emergencies or disaster relief.

4. Section 97.113(a)(4) implements Radio Regulations Article 25.2A. Previously, Article 25.2 stated “When transmissions between amateur stations of different countries are permitted, they shall be made in plain language and shall be limited to messages of a technical nature relating to tests and to remarks of a personal character for which, by reason of their unimportance, recourse to the public telecommunications service is not justified.” Article 25.2A, as adopted at WRC-03, now states “Transmissions between amateur stations of different countries shall not be encoded for the purpose of obscuring their meaning, except for control signals exchanged between earth command stations and space stations in the amateur satellite service.” To conform § 97.113(a)(4) to the amended Radio Regulation, the Commission amended this section to prohibit amateur stations exchanging messages with amateur stations in other countries from making transmissions that are encoded for the purpose of obscuring their meaning, except for control signals exchanged between earth command stations and space stations in the amateur-satellite service. The effect of this revision is to allow FCC-licensed amateur stations to exchange messages using digital communication codes and foreign languages when the intent is not for the purpose of obscuring the message's meaning.

5. Section 97.117 implements Radio Regulation Article 25.2. Article 25.2, as revised at WRC-03, now states “Transmissions between amateur stations of different countries shall be limited to communications incidental to the purposes of the amateur service, as defined in No. 1.56 [which defines the amateur service] and to remarks of a personal character. To conform § 97.117 to the amended Article 25.2 of the Radio Regulations, the Commission amended this section to state that amateur stations may transmit communications incidental to the purposes of the amateur service and to remarks of a personal character.” The effect of this revision is to expand the scope of messages FCC-licensed amateur stations may transmit to included communications incidental to the purposes of the amateur service and to remarks of a personal character. The Commission also revised the definition of International Morse code and various digital codes in § 97.3 the Amateur Radio Service rules to conform with the updated definitions of these codes in the Radio Regulations.

I. Procedural Matters

A. Paperwork Reduction Act Analysis

1. This document does not contain new or modified information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

B. Report to Congress

2. The Commission will send a copy of the Order in a report to be sent to Congress and the Government Accountability Office pursuant to the Congressional Review Act, see 5 U.S.C. 801(a)(1)(A).

List of Subjects in 47 CFR Part 97

Radio.

Federal Communications Commission.
Ramona Melson,
Chief of Staff, Public Safety and Critical Infrastructure Division, Wireless Telecommunications Bureau.

Rule Changes

For the reasons discussed in the preamble, the Federal Communications Commission amends 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Section 97.3 is amended to revise paragraph (a)(27) to read as follows:

§ 97.3 Definitions.

(a) * * *

(27) International Morse code. A dot-dash code as defined in ITU-T Recommendation F.1 (March, 1998), Division B, I. Morse code.

* * * * *

3. Section 97.111 is amended to revise paragraph (a)(1) to read as follows:

§ 97.111 Authorized transmissions.

(a) * * *

(1) Transmissions necessary to exchange messages with other stations in the amateur service, except those in any country whose administration has notified the ITU that it objects to such communications. The FCC will issue public notices of current arrangements for international communications.

* * * * *

4. Section 97.113 is amended to revise paragraph (a)(4) to read as follows:

§ 97.113 Prohibited transmissions.

(a) * * *

(4) Music using a phone emission except as specifically provided elsewhere in this section; communications intended to facilitate a criminal act; messages encoded for the purpose of obscuring their meaning, except as otherwise provided herein; obscene or indecent words or language; or false or deceptive messages, signals or identification.

* * * * *

5. Section 97.115 is amended to revise paragraph (a)(2) to read as follows:

§ 97.115 Third party communications.

(a) * * *

(2) Any station within the jurisdiction of any foreign government when transmitting emergency or disaster relief communications and any station within the jurisdiction of any foreign government whose administration has made arrangements with the United States to allow amateur stations to be used for transmitting international communications on behalf of third parties. No station shall transmit messages for a third party to any station within the jurisdiction of any foreign government whose administration has not made such an arrangement. This prohibition does not apply to a message for any third party who is eligible to be a control operator of the station.

* * * * *

6. Section 97.117 is revised to read as follows:

§ 97.117 International communications.

Transmissions to a different country, where permitted, shall be limited to communications incidental to the purposes of the amateur service and to remarks of a personal character.

7. Section 97.309 is amended to revise paragraphs (a)(1), (a)(2), and (a)(3) to read as follows:

§ 97.309 RTTY and data emission codes.

(a) * * *

(1) The 5-unit, start-stop, International Telegraph Alphabet No. 2, code defined in ITU-T Recommendation F.1, Division C (commonly known as “Baudot”).

(2) The 7-unit code specified in ITU-R Recommendations M.476-5 and M.625-3 (commonly known as “AMTOR”).

(3) The 7-unit, International Alphabet No. 5, code defined in IT--T Recommendation T.50 (commonly known as “ASCII”).

* * * * *

[FR Doc. 06-4028 Filed 5-2-06; 8:45 am]

BILLING CODE 6712-01-P